DEPARTMENT OF THE TREASURY

Office of Foreign Assets Control

Sanctions Action Pursuant to Executive Order 13664

AGENCY: Office of Foreign Assets Control, Treasury.

ACTION: Notice.

SUMMARY: The Treasury Department's Office of Foreign Assets Control (OFAC) is publishing updated identifying information for one individual whose property and interests in property are blocked pursuant to Executive Order (E.O.) 13664, “Blocking Property of Certain Persons With Respect to South Sudan,” who was previously designated and added to OFAC's list of Specially Designated Nationals and Blocked Persons (SDN List).

DATES: OFAC's actions described in this notice were effective April 4, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202-622-0077.

Notice of OFAC Actions

On April 4, 2016, OFAC updated the identifying information for one previously designated individual whose property and interests in property are blocked pursuant to E.O. 13664. The updated identifying information for the individual is as follows:

JOK RIAK, Gabriel (a.k.a. JOK, Gabriel; a.k.a. MAKOL, Gabriel Jok Riak; a.k.a. MAKOL, Jok Riak; a.k.a. RIAK, Jock; a.k.a. RIAK, Jok), Wau, Western Bahr El Ghazal State, South Sudan; Unity State, South Sudan; DOB 1966; POB Bor, South Sudan; alt. POB Bor, Sudan; nationality South Sudan; Lieutenant General; Sector One Commander (individual) [SOUTH SUDAN].

Dated: April 4, 2016.
Andrea Gacki,
Acting Director, Office of Foreign Assets Control.

[FR Doc. 2016-07989 Filed 4-6-16; 8:45 am]

BILLING CODE 4810-AL-P